INTERNATIONAL TRADE COMMISSION

[USITC SE-15-010]

Sunshine Act Meeting

AGENCY HOLDING THE MEETING: United States International Trade Commission.

TIME AND DATE: March 31, 2015 at 9:30 a.m.

PLACE: Room 101, 500 E Street SW., Washington, DC 20436, Telephone: (202) 205-2000.

STATUS: Open to the public.

MATTERS TO BE CONSIDERED:

1. Agendas for future meetings: None.

2. Minutes.

3. Ratification List.

4. Vote in Inv. Nos. 701-TA-432, 731-TA-1024-1028, and AA1921-188 (Second Review) (Prestressed Concrete Steel Wire Strand from Brazil, India, Japan, Korea, Mexico, and Thailand). The Commission is currently scheduled to complete and file its determinations and views of the Commission on April 10, 2015.

5. Outstanding action jackets: None.

In accordance with Commission policy, subject matter listed above, not disposed of at the scheduled meeting, may be carried over to the agenda of the following meeting.

By order of the Commission.
Issued: March 24, 2015.
William R. Bishop,
Supervisory Hearings and Information Officer.

[FR Doc. 2015-07022 Filed 3-24-15; 11:15 am]

BILLING CODE 7020-02-P